DEPARTMENT OF TRANSPORTATION

Federal Aviation Administration

Noise Compatibility Program Notice; Shreveport Regional Airport, Shreveport, LA

AGENCY: Federal Aviation Administration, DOT.

ACTION: Notice.

SUMMARY: The Federal Aviation Administration (FAA) announces its findings on the noise compatibility program submitted by the Shreveport Regional Airport Authority under the provisions of 49 U.S.C. (the Aviation Safety and Noise Abatement Act, hereinafter referred to as “the Act”) and 14 CFR Part 150. These findings are made in recognition of the description of Federal and nonfederal responsibilities in Senate Report No. 96-52 (1980). On January 12, 2007 the FAA determined that the noise exposure maps submitted by the Shreveport Regional Airport under Part 150 were in compliance with applicable requirements. On May 24, 2007, the FAA approved the Shreveport Regional Airport noise compatibility program. Four of the six recommendations of the program were approved in full, one was approved in part, and one was disapproved.

DATES: Effective dates: The effective date of the FAA's approval of the Shreveport Regional Airport noise compatibility program is May 24, 2007.

FOR FURTHER INFORMATION CONTACT: Tim Tandy, Federal Aviation Administration, ASW-640, Fort Worth, TX 76193-0640 at (817) 222-5644. Documents reflecting this FAA action may be reviewed at this same location.

SUPPLEMENTARY INFORMATION: This notice announces that the FAA has given its overall approval to the noise compatibility program for Shreveport Regional Airport, effective May 24, 2007.

Under section 47504 of the Act, an airport operator who has previously submitted a noise exposure map may submit to the FAA a noise compatibility program which sets forth the measures taken or proposed by the airport operator for the reduction of existing non-compatible land uses and prevention of additional non-compatible land uses within the area covered by the noise exposure maps. The Act requires such programs to be developed in consultation with interested and affected parties including local communities, government agencies, airport users, and FAA personnel.

Each airport noise compatibility program developed in accordance with Federal Aviation Regulations (FAR) Part 150 is a local program, not a Federal program. The FAA does not substitute its judgment for that of the airport proprietor with respect to which measures should be recommended for action. The FAA's approval or disapproved of FAR Part 150 program recommendations is measured according to the standards expressed in part 150 and the Act and is limited to the following determinations:

a. The noise compatibility program was developed in accordance with the provisions and procedures of FAR Part 150;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport noise compatibility program are delineated in FAR Part 150, section 150.5. Approval is not a determination concerning the acceptability of land uses under Federal, State, or local law. Approval does not by itself constitute an FAA implementing action. A request for Federal action or approval to implement specific noise compatibility measures may be required, and an FAA decision on the request may require an environmental assessment of the proposed action. Approval does not constitute a commitment by the FAA to financially assist in the implementation of the program nor a determination that all measures covered by the program are eligible for grant-in-aid funding from the FAA. Where Federal funding is sought, requests for project grants must be submitted to the FAA regional office in Fort Worth, Texas.

The Shreveport Regional Airport Authority submitted to the FAA on December 7, 2006 the noise exposure maps, descriptions, and other documentation produced during the noise compatibility planning study conducted from 2004 through 2006. The Shreveport Regional Airport noise exposure maps were determined by FAA to be in compliance with applicable requirements on January 12, 2007. Notice of this determination was published in the Federal Register on January 22, 2007.

The Shreveport Regional Airport study contains a proposed noise compatibility program comprised of actions designed for phased implementation by airport management and adjacent jurisdictions from 2007 to beyond the year 2012. It was requested that the FAA evaluate and approve this material as a noise compatibility program as described in section 47504 of the Act. The FAA began its review of the program on January 12, 2007 and was required by a provision of the Act to approve or disapprove the program within 180 days (other than the use of new or modified flight procedures for noise control). Failure to approve or disapprove such program within the 180-day period shall be deemed to be an approval of such program.

The submitted program contained six proposed actions for noise mitigation on and off the airport. The FAA completed its review and determined that the procedural and substantive requirements of the Act and FAR Part 150 have been satisfied. The overall program, therefore, was approved by the FAA effective May 24, 2007.

Outright approval was granted for four of the specific program elements. Program Recommendation 1, designating a nose heading for all aircraft undergoing engine run-up exercises at the Continental Airlines Maintenance facility was disapproved, since the analysis neither identifies significant noise impacts associated with engine run-ups nor indicates that the proposed action would appreciably affect the Yearly Day/Night Average Sound (DNL) 65 and greater noise contours. Program Recommendation 3, involving acquisition of non-compatible properties and vacant lots located east of the airport was approved in part. Acquisition of vacant lots north of Hollywood Avenue not directly associated with residential properties to be purchased under this NCP was disapproved pending further documentation justifying their acquisition for improved marketability purposes or prevention of imminent noncompatible development. The following program recommendations were approved in full: Program Recommendation 2, involving soundproofing and/or sales assistance for noncompatible properties located north of the airport; Program Recommendation 4, involving soundproofing and/or sales assistance for noncompatible properties located south of the airport; Program Recommendation 5, involving fee simple acquisition of 22 noncompatible properties, and soundproofing and sales assistance for other noncompatible properties located south of the airport; and Program Recommendation 6, involving hiring a consultant to conduct and oversee the continued implementation of the non-expenditure land use management measures of the 1992 NCP, which form the basis for the current NCP update.

These determinations are set forth in detail in a Record of Approval signed by the FAA Southwest Region Airports Division Manager on May 24, 2007. The Record of Approval, as well as other evaluation materials and the documents comprising the submittal, are available for review at the FAA office listed above and at the administrative offices of the Shreveport Regional Airport Authority. The Record of Approval also will be available on-line at http://www.faa.gov/arp/environmental/14cfr150/index14.cfm.

Issued in fort Worth, Texas, July 3, 2007.
Kelvin L. Solco,
Manager, Airports Division.

[FR Doc. 07-3406 Filed 7-12-07; 8:45 am]

BILLING CODE 4910-13-M